ENVIRONMENTAL PROTECTION AGENCY

[ER-FRL-6680-7]

Environmental Impacts Statements; Notice of Availability

Responsible Agency: Office of Federal Activities, General Information (202) 564-7167 or http://www.epa.gov/compliance/nepa/.

Weekly Receipt of Environmental Impact Statements

Filed 10/23/2006 Through 10/27/2006

Pursuant to 40 CFR 1506.9.

EIS No, 20060443, Draft EIS, AFS, AK, Baht Timber Sale Project, Proposes to Harvest Timber and Temporary Road Construction on Zarembo Island, Wrangell Ranger District, Tongrass National Forest, AK, Comment Period Ends: 12/18/2006, Contact: Linda Christian 907-874-7555

EIS No, 20060444, Draft EIS, COE, CA, San Luis Rey Flood Control Project, Operation and Maintenance of the Vegetation and Sediment Management, from College Blvd to the Pacific Ocean, San Diego County, CA, Comment Period Ends: 12/18/2006, Contact: Tiffany Kayama 213-452-3845

EIS No, 20060445, Draft EIS, NPS, MT, Avalanche Hazard Reduction Project, Issuance of Special Use Permit for the Use of Explosives in the Park, Burlington Northern Santa Fe Railway, Glacier National Park, Flathead National Forest, Flathead and Glacier Counties, MT, Comment Period Ends: 12/22/2006, Contact: Mary Riddle 406-888-7898

EIS No, 20060446, Final EIS, COE , LA, Port of Iberia Project, To Determine the Feasibility of Deepening the Existing Navigation Channels between the POI and the Gulf of Mexico, Portions of the Gulf Intracoastal Waterway (GIWW) and Freshwater Bayou (FWB), LA, Wait Period Ends: 12/04/2006, Contact: Nathan S. Dayan 504-862-2530

EIS No, 20060447, Final EIS, BLM, 00, Devers-Palo Verde No. 2 Transmission Line Project, Construction and Operation a New 230-mile 500 kV Electric Transmission Line between Devers Substation in California and Harquahala Generating Substation in Arizona, Wait Period Ends: 12/04/2006, Contact: Greg Hill 760-251-4840

EIS No, 20060448, Final EIS, TVA, 00, Nolichucky Reservoir Flood Remediation Project, To Identify and Evaluate Ways to Address Flooding Effects of Nolichucky Dam and the Accumulated Sediment in Nolichucky Reservoir on Land and Property Not Owned by the Federal Government, NPDES Permit and U.S. COE Section 404 Permit, Cocke, Greene, Hamblen, Jefferson, Unicoi, Washington Counties, TN and Avery, Mitchell, Yancey Counties, NC, Wait Period Ends: 12/04/2006, Contact: Stanford E. Davis 865-632-2915

EIS No, 20060449, Draft EIS, AFS, ID, Salmon-Challis National Forest, Lost River/Lemhi Grazing Allotments, To Improve Range Condition and Trend, Lost River and Ranger Districts, Salmon-Challis National Forest, Butte, Clark, Custer and Lemhi Counties, ID, Comment Period Ends: 12/18/2006, Contact: Karry Krieger 208-756-5102

EIS No, 20060450, Final EIS, NRS, MA, Cape Cod Water Resources Restoration Project, Restore Degraded Salt Marshes, Restore Anadromous Fish Passages, and Improve Water Quality for Shellfishing Area, Cape Cod, Barnstable County, MA, Wait Period Ends: 12/04/2006, Contact: Richard J. DeVergilio 413-253-4351

EIS No, 20060451, Final EIS, CGD, MA, Neptune Liquefied Natural Gas (LNG), Construction and Operation, Deepwater Port License Application, (Docket Number USCG-2004-22611) Massachusetts Bay, Gloucester and Boston, MA, Wait Period Ends: 12/04/2006, Contact: Mark Prescott 202-267-0225

Amended Notices

EIS No, 20060375, Draft EIS, FHW, MT, Miller Creek Road Project, To Provide Safe and Improved Access between U.S. 93 and the Miller Creek Area, Missoula County, MT , Comment Period Ends: 12/06/2006, Contact: Theodore Burch 406-449-5302 Ext. 240, Revision of FR Notice Published 09/15/2006: Extend Comment Period from 11/06/2006 to 12/06/2006

Dated: October 31, 2006.
Robert W. Hargrove,
Director, NEPA Compliance Division, Office of Federal Activities.

[FR Doc. E6-18589 Filed 11-2-06; 8:45 am]

BILLING CODE 6560-50-P